DEPARTMENT OF COMMERCE

National Oceanic and Atmospheric Administration

RIN 0648-XM52

Gulf of Mexico Fishery Management Council (Council); Public Meetings; Correction

AGENCY: National Marine Fisheries Service (NMFS), National Oceanic and Atmospheric Administration (NOAA), Commerce.

ACTION: Notice of public meetings.

SUMMARY: The Gulf of Mexico Fishery Management Council will convene public meetings. The original document published on Tuesday, January 6, 2009 and this document adds additional discussions that will take place at the Tuesday, January 27, 2009, 8:30 am-12:00 pm & 1:30 pm-3:00 pm meeting and is corrected in the SUMMARY section. All other information remains unchanged.

DATES: The meetings will be held January 26-29, 2009.

ADDRESSES: The meetings will be held at the Hollywood Casino, 711 Hollywood Blvd., Bay St. Louis, MS 39520.

Council address: Gulf of Mexico Fishery Management Council, 2203 North Lois Avenue, Suite 1100, Tampa, FL, 33607.

FOR FURTHER INFORMATION CONTACT: Richard Leard, Interim Executive Director, Gulf of Mexico Fishery Management Council; telephone: 813-348-1630.

SUPPLEMENTARY INFORMATION:

Correction

In the Federal Register of January 6, 2009, in FR Doc. E8-31438, on page 432, in the third column, the Tuesday, January 27, 2009, 8:30 am-12:00 pm & 1:30 pm -3:00 pm meeting is corrected to read as follows:

Tuesday, January 27, 2009

8:30 am-12:00 pm & 1:30 pm-3:00 pm—The Reef Fish Management Committee will meet to discuss the Options Paper on Amendment/Regulatory Amendment and DEIS to Address Longline/Turtle Interactions; Results of Referendum and Final Action on Reef Fish Amendment 29; White Paper on Pros and Cons of Red Snapper For-Hire Sector Management; and Consideration of (re)allocation Issues for those Species in Reef Fish Amendments 30A and 30B using the Allocation Policy. The committee may also discuss and make recommendations for a Gulf of Mexico Angling Reporting System (GOMARS) to improve recreational data collection, particularly for red snapper. Finally, the committee will also receive a presentation on a device to reduce release mortality and may discuss goliath grouper activities.

Dated: January 9, 2009.
William Chappell,
Acting Director, Office of Sustainable Fisheries, National Marine Fisheries Service.

[FR Doc. E9-608 Filed 1-12-09; 8:45 am]

BILLING CODE 3510-22-S